DEPARTMENT OF HOMELAND SECURITY

Federal Emergency Management Agency

[Docket ID FEMA-2021-0002; Internal Agency Docket No. FEMA-B-2138]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before September 27, 2021.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2138, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Buena Vista County, Iowa and Incorporated Areas
Project: 16-07-2138S Preliminary Date: August 16, 2019
City of Storm Lake | City Hall, 620 Erie Street, Storm Lake, IA 50588.
Clayton County, Iowa and Incorporated Areas
Project: 19-07-0015S Preliminary Date: December 16, 2020
City of Elkader | City Hall, 207 North Main Street, Elkader, IA 52043.
Unincorporated Areas of Clayton County | Clayton County Courthouse, 111 High Street Northeast, Elkader, IA 52043.
Kent County, Michigan (All Jurisdictions)
Project: 12-05-2853S Preliminary Date: November 16, 2020
Charter Township of Caledonia | Township Hall, 8196 Broadmoor Avenue Southeast, Caledonia, MI 49316.
Charter Township of Cascade | Cascade Charter Township Office, 5920 Tahoe Drive Southeast, Grand Rapids, MI 49546.
Charter Township of Gaines | Gaines Charter Township Office, 8555 Kalamazoo Avenue Southeast, Caledonia, MI 49316.
Charter Township of Grand Rapids | Township Hall, 1836 East Beltline Avenue Northeast, Grand Rapids, MI 49525.
Charter Township of Lowell | Township Hall, 2910 Alden Nash Avenue Southeast, Lowell, MI 49331.
Charter Township of Plainfield | Plainfield Charter Township Hall, 6161 Belmont Avenue Northeast, Belmont, MI 49306.
City of Cedar Springs | City Hall, 66 South Main Street, Cedar Springs, MI 49319.
City of East Grand Rapids | Community Center, 750 Lakeside Drive Southeast, East Grand Rapids, MI 49506.
City of Grand Rapids | City Hall, 300 Monroe Avenue Northwest, Grand Rapids, MI 49503.
City of Grandville | City Hall, 3195 Wilson Avenue Southwest, Grandville, MI 49418.
City of Kentwood | City Hall Engineering Department, 4900 Breton Avenue Southeast, Kentwood, MI 49508.
City of Lowell | City Hall, 301 East Main Street, Lowell, MI 49331.
City of Rockford | City Hall, 7 South Monroe Street, Rockford, MI 49341.
City of Walker | Engineering Department City Hall, 4243 Remembrance Road Northwest, Walker, MI 49534.
City of Wyoming | City Hall, 1155 28th Street Southwest, Wyoming, MI 49509.
Township of Ada | Township Hall, 7330 Thornapple River Drive, Ada, MI 49301.
Township of Algoma | Algoma Township Office, 10531 Algoma Avenue Northeast, Rockford, MI 49341.
Township of Alpine | Alpine Township Hall, 5255 Alpine Avenue Northwest, Comstock Park, MI 49321.
Township of Byron | Byron Township Hall, 8085 Byron Center Avenue Southwest, Byron Center, MI 49315.
Township of Cannon | Cannon Township Center, 6878 Belding Road, Rockford, MI 49341.
Township of Solon | Solon Township Offices, 15185 Algoma Avenue Northeast, Cedar Springs, MI 49319.
Township of Sparta | Township Hall, 160 East Division Street, Sparta, MI 49345.
Township of Tyrone | Tyrone Township Hall, 28 East Muskegon Street, Kent City, MI 49330.
Township of Vergennes | Vergennes Township Hall, 10381 Bailey Drive Northeast, Lowell, MI 49331.
Village of Casnovia | Village Hall, 141 North Main Street, Casnovia, MI 49318.
Village of Kent City | Village Office, 83 Spring Street, Kent City, MI 49330.
Village of Sparta | Village Hall, 156 East Division Street, Sparta, MI 49345.
Florence County, Wisconsin and Incorporated Areas
Project: 18-05-0013S Preliminary Date: November 16, 2020
Unincorporated Areas of Florence County | Florence County Courthouse, 501 Lake Avenue, Florence, WI 54121.

[FR Doc. 2021-13863 Filed 6-28-21; 8:45 am]

BILLING CODE 9110-12-P